FEDERAL COMMUNICATIONS COMMISSION

47 CFR Parts 61 and 69

[WC Docket No. 07-135; DA 07-5082]

Establishing Just and Reasonable Rates for Local Exchange Carriers

AGENCY: Federal Communications Commission.

ACTION: Proposed rule; extension of comment period.

SUMMARY: In this document, the Federal Communications Commission (Commission) extends the date for filing reply comments from December 31, 2007, to January 16, 2008, to provide parties additional time to evaluate the extensive comments received and prepare their replies.

DATES: Reply comments are due on or before January 16, 2008.

ADDRESSES: Interested parties may file reply comments on or before January 16, 2008. All filings related to this Notice of Proposed Rulemaking should refer to WC Docket No. 07-135. Comments may be filed using: (1) The Commission's Electronic Comment Filing System (ECFS), (2) the Federal Government's Rulemaking Portal, or (3) by filing paper copies. See Electronic Filing of Documents in Rulemaking Proceedings, 63 FR 24121 (1998).

• Electronic Filers: Comments may be filed electronically using the Internet by accessing the ECFS: http://www.fcc.gov/cgb/ecfs or the Federal eRulemaking Portal: http://www.regulations.gov. Filers should follow the instructions provided on the Web site for submitting comments.

• For ECFS filers, if multiple dockets or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

• Paper Filers: Parties who choose to file by paper must file an original and four copies of each filing. If more than one docket or rulemaking number appears in the caption of this proceeding, filers must submit two additional copies for each additional docket or rulemaking number.

• Filings can be sent by hand or messenger delivery, by commercial overnight courier, or by first-class or overnight U.S. Postal Service mail (although we continue to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street, SW., Washington, DC 20554.

• To request materials in accessible formats for people with disabilities (braille, large print, electronic files, audio format), send an e-mail to fcc504@fcc.gov or call the Consumer & Governmental Affairs Bureau at 202-418-0530 (voice), 202-418-0432 (TTY).

FOR FURTHER INFORMATION CONTACT: Douglas Slotten, Wireline Competition Bureau, Pricing Policy Division, (202) 418-1572.

SUPPLEMENTARY INFORMATION: This is a summary of the Commission's Order in WC Docket No. 07-135, adopted on December 20, 2007, and released on December 20, 2007. The complete text of this Order is available for public inspection Monday through Thursday from 8 a.m. to 4:30 p.m. and Friday from 8 a.m. to 11:30 a.m. in the Commission's Consumer and Governmental Affairs Bureau, Reference Information Center, Room CY-A257, 445 12th Street, SW., Washington, DC 20554. The complete text is available also on the Commission's Internet site at http://www.fcc.gov. Alternative formats are available for persons with disabilities by contacting the Consumer and Governmental Affairs Bureau, at (202) 418-0531, TTY (202) 418-7365, or at fcc504@fcc.gov. The complete text of the decision may be purchased from the Commission's duplicating contractor, Best Copying and Printing, Inc., Room CY-B402, 445 12th Street, SW., Washington, DC 20554, telephone (202) 488-5300, facsimile (202) 488-5563, TTY (202) 488-5562, or e-mail at fcc@bcpiweb.com.

Synopsis of Order

1. Reply comments are currently due on December 31, 2007, 72 FR 64179 (Nov. 15, 2007). We find that providing an additional sixteen days to file reply comments in this proceeding will facilitate the development of a more accurate and complete record. We note that it is the policy of the Commission that extensions of time shall not be routinely granted. Given the complexity of the issues that are raised, the large number of comments that were filed, and the intervening holidays, however, we find that good cause exists to provide all parties an extension of time from December 31, 2007 to January 16, 2008 for filing reply comments in this proceeding.

2. Accordingly, it is ordered that, pursuant to §§ 4(i), 4(j), and 5(c) of the Communications Act, 47 U.S.C. 154(i), 154(j), 155(c), and §§ 0.91, 0.291, and 1.46 of the Commission's rules, 47 CFR 0.91, 0.291, 1.46, reply comments in this matter shall be filed on or before January 16, 2008.

3. It is further ordered that the motions of FUTUREPHONE.COM, LLC., the National Telephone Cooperative Association and the Independent Telephone and Telecommunications Alliance, and CTIA—the Wireless Association for Extension of Time are granted, as set forth herein.

Federal Communications Commission.
Dana R. Shaffer,
Chief, Wireline Competition Bureau.

[FR Doc. E8-117 Filed 1-7-08; 8:45 am]

BILLING CODE 6712-01-P